DEPARTMENT OF LABOR

Employment and Training Administration

[TA-W-73,859]

Watkins Shepard Trucking, Inc. Including Individuals Under Its Operation Control, Missoula, MT; Amended Certification Regarding Eligibility To Apply for Worker Adjustment Assistance

In accordance with Section 223 of the Trade Act of 1974, as amended (“Act”), 19 U.S.C. 2273, the Department of Labor issued a Certification of Eligibility to Apply for Worker Adjustment Assistance on July 14, 2010, applicable to workers of Watkins Shepard Trucking, Inc., Missoula, Montana. The Department's Notice of determination will soon be published in the Federal Register. The certification included independent contractors working on-site at the subject firm.

At the request of the State of Montana, the Department reviewed the certification for workers of the subject firm.

By definition, independent contractors are not under the operation control of another entity. Accordingly, the Department is amending the certification to exclude independent contractors.

The intent of the Department's certification is to include all workers of Watkins Shepard Trucking, Inc., Missoula, Montana and all individuals under the operation control of the subject firm who are adversely affected secondary workers.

The amended notice applicable to TA-W-73,859 is hereby issued as follows:

“All workers of Watkins Shepard Trucking, Inc., including individuals under its operational control, Missoula, Montana, who became totally or partially separated from employment on or after March 23, 2009, through July 14, 2012, and all workers in the group threatened with total or partial separation from employment on the date of certification through two years from the date of certification, are eligible to apply for adjustment assistance under Chapter 2 of Title II of the Trade Act of 1974, as amended.”

Signed at Washington, DC, this 28th day of July 2010.
Del Min Amy Chen,
Certifying Officer, Division of Trade Adjustment Assistance.

[FR Doc. 2010-20035 Filed 8-12-10; 8:45 am]

BILLING CODE 4510-FN-P